DEPARTMENT OF ENERGY

Environmental Management Site-Specific Advisory Board, Hanford

AGENCY: Department of Energy.

ACTION: Notice of open meeting.

SUMMARY: This notice announces a meeting of the Environmental Management Site-Specific Advisory Board (EMSSAB), Hanford. The Federal Advisory Committee Act (Pub. L. No. 92-463, 86 Stat. 770) requires that public notice of this meeting be announced in the Federal Register.

DATES: Thursday, November 3, 2005, 9 a.m.-5 p.m. Friday, November 4, 2005, 8:30 a.m.-4 p.m.

ADDRESSES: University Tower Hotel, 4507 Brooklyn Avenue NE., Seattle, Washington 98105, Phone Number: (206) 634-2000, Fax Number: (206) 545-2103.

FOR FURTHER INFORMATION CONTACT: Yvonne Sherman, Public Involvement Program Manager, Department of Energy Richland Operations Office, 825 Jadwin, MSIN A7-75, Richland, WA, 99352; Phone: (509) 376-6216; Fax: (509) 376-1563.

SUPPLEMENTARY INFORMATION: Purpose of the Board: The purpose of the Board is to make recommendations to DOE in the areas of environmental restoration, waste management, and related activities.

Tentative Agenda:

• Advice on Hanford's Bulk Vitrification Project.

• Government Accountability Office's report dealing with DOE's contracting issues.

• Hanford Advisory Board (HAB) public speaker availability process.

• Panel discussion with University of Washington faculty involved in Hanford research.

• HAB values for prioritization of cleanup work.

• Tank waste issues discussion.

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available by writing to Erik Olds, Department of Energy Richland Operations Office, 825 Jadwin, MSIN A7-75, Richland, WA 99352, or by calling him at (509) 376-1563.

Issued at Washington, DC, on October 6, 2005.
Carol Matthews,
Acting Advisory Committee Management Officer.

[FR Doc. 05-20507 Filed 10-12-05; 8:45 am]

BILLING CODE 6450-01-P